FEDERAL COMMUNICATIONS COMMISSION

47 CFR Part 73

[DA No. 00-1519; MM Docket No. 99-221; RM-9639]

Radio Broadcasting Services; Fortine, MT

AGENCY: Federal Communications Commission.

ACTION: Proposed rule; denial.

SUMMARY: This document denies a petition for rule making filed by the Battani Corporation requesting the allotment of Channel 232C3 at Fortine, Montana. See 64 FR 34752, June 29, 1999. Based on the information submitted by the Battani Corporation, we believe it has failed to establish that Fortine qualifies as a community for allotment purposes and therefore it would not serve the public interest to allot a channel to Fortine.

ADDRESSES: Federal Communications Commission, Washington, DC 20554.

FOR FURTHER INFORMATION CONTACT: Kathleen Scheuerle, Mass Media Bureau, (202) 418-2180.

SUPPLEMENTARY INFORMATION: This is a summary of the Commission's Report and Order, MM Docket No. 99-221, adopted June 28, 2000, and released July 7, 2000. The full text of this Commission decision is available for inspection and copying during normal business hours in the Commission's Reference Center, 445 Twelfth Street, SW, Washington, DC. The complete text of this decision may also be purchased from the Commission's copy contractors, International Transcription Services, Inc., 1231 20th Street, NW., Washington, DC 20036; (202) 857-3800, facsimile (202) 857-3805.

Federal Communications Commission.
John A. Karousos,
Chief, Allocations Branch, Policy and Rules Division, Mass Media Bureau.

[FR Doc. 00-18761 Filed 7-24-00; 8:45 am]

BILLING CODE 6712-01-P